ENVIRONMENTAL PROTECTION AGENCY

40 CFR Parts 52 and 70

[EPA-R07-OAR-2008-0403; FRL-8707-7]

Approval and Promulgation of Implementation Plans and Operating Permits Program; State of Iowa

AGENCY: Environmental Protection Agency (EPA).

ACTION: Direct final rule.

SUMMARY: EPA is approving a revision to the Iowa State Implementation Plan (SIP) and Operating Permits Program submitted by the state of Iowa for the purpose of modifying and clarifying requirements for certain types of grain elevators. Specifically, the new rule revises the SIP to add special requirements for grain elevators, and the associated chapters for definitions and emission standards will be revised accordingly. The Iowa Department of Natural Resources (IDNR) is requiring that owners or operators of grain elevators apply best management practices and comply with the fugitive dust standard, as well as emission controls specified in required construction permits. These strategies will protect the ambient air and minimize the impact of emissions from each of the facilities.

DATES: This direct final rule will be effective October 24, 2008, without further notice, unless EPA receives adverse comment by September 24, 2008. If EPA receives adverse comment, we will publish a timely withdrawal of the direct final rule in the Federal Register informing the public that the rule will not take effect.

ADDRESSES: Submit your comments, identified by Docket ID No. EPA-R07-OAR-2008-0403, by one of the following methods:

1. http://www.regulations.gov. Follow the on-line instructions for submitting comments.

2. E-mail: Hamilton.heather@epa.gov.

3. Mail or Hand Delivery: Heather Hamilton, Environmental Protection Agency, Air Planning and Development Branch, 901 North 5th Street, Kansas City, Kansas 66101.

Instructions: Direct your comments to Docket ID No. EPA-R07-OAR-2008-0403. EPA's policy is that all comments received will be included in the public docket without change and may be made available online at http://www.regulations.gov, including any personal information provided, unless the comment includes information claimed to be Confidential Business Information (CBI) or other information whose disclosure is restricted by statute. Do not submit through http://www.regulations.gov or e-mail information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, i.e., CBI or other information whose disclosure is restricted by statute. Certain other material, such as copyrighted material, will be publicly available only in hard copy form. Publicly available docket materials are available either electronically in http://www.regulations.gov or in hard copy at the Environmental Protection Agency, Air Planning and Development Branch, 901 North 5th Street, Kansas City, Kansas 66101. The Regional Office's official hours of business are Monday through Friday, 8 to 4:30 excluding Federal holidays. The interested persons wanting to examine these documents should make an appointment with the office at least 24 hours in advance.

FOR FURTHER INFORMATION CONTACT: Heather Hamilton at (913) 551-7039, or by e-mail at Hamilton.heather@epa.gov.

SUPPLEMENTARY INFORMATION: Throughout this document whenever “we,” “us,” or “our” is used, we mean EPA. This section provides additional information by addressing the following questions:

What is a SIP?

What is the Federal approval process for a SIP?

What does Federal approval of a state regulation mean to me?

What is a Part 70 operating permits program?

What is the Federal approval process for the operating permits program?

What is being addressed in this document?

Have the requirements for approval of a SIP revision and a Part 70 revision been met?

What action is EPA taking?

What is a SIP?

Section 110 of the Clean Air Act (CAA) requires states to develop air pollution regulations and control strategies to ensure that state air quality meets the national ambient air quality standards established by EPA. These ambient standards are established under section 109 of the CAA, and they currently address six criteria pollutants. These pollutants are: Carbon monoxide, nitrogen dioxide, ozone, lead, particulate matter, and sulfur dioxide.

Each state must submit these regulations and control strategies to us for approval and incorporation into the Federally-enforceable SIP.

Each Federally-approved SIP protects air quality primarily by addressing air pollution at its point of origin. These SIPs can be extensive, containing state regulations or other enforceable documents and supporting information such as emission inventories, monitoring networks, and modeling demonstrations.

What is the Federal approval process for a SIP?

In order for state regulations to be incorporated into the Federally-enforceable SIP, states must formally adopt the regulations and control strategies consistent with state and Federal requirements. This process generally includes a public notice, public hearing, public comment period, and a formal adoption by a state-authorized rulemaking body.

Once a state rule, regulation, or control strategy is adopted, the state submits it to us for inclusion into the SIP. We must provide public notice and seek additional public comment regarding the proposed Federal action on the state submission. If adverse comments are received, they must be addressed prior to any final Federal action by us.

All state regulations and supporting information approved by EPA under section 110 of the CAA are incorporated into the Federally-approved SIP. Records of such SIP actions are maintained in the Code of Federal Regulations (CFR) at title 40, part 52, entitled “Approval and Promulgation of Implementation Plans.” The actual state regulations which are approved are not reproduced in their entirety in the CFR outright but are “incorporated by reference,” which means that we have approved a given state regulation with a specific effective date.

What does Federal approval of a state regulation mean to me?

Enforcement of the state regulation before and after it is incorporated into the Federally-approved SIP is primarily a state responsibility. However, after the regulation is Federally approved, we are authorized to take enforcement action against violators. Citizens are also offered legal recourse to address violations as described in section 304 of the CAA.

What is the Part 70 operating permits program?

The CAA Amendments of 1990 require all states to develop operating permits programs that meet certain Federal criteria. In implementing this program, the states are to require certain sources of air pollution to obtain permits that contain all applicable requirements under the CAA. One purpose of the part 70 operating permits program is to improve enforcement by issuing each source a single permit that consolidates all of the applicable CAA requirements into a Federally-enforceable document. By consolidating all of the applicable requirements for a facility into one document, the source, the public, and the permitting authorities can more easily determine what CAA requirements apply and how compliance with those requirements is determined.

Sources required to obtain an operating permit under this program include “major” sources of air pollution and certain other sources specified in the CAA or in our implementing regulations. For example, all sources regulated under the acid rain program, regardless of size, must obtain permits. Examples of major sources include those that emit 100 tons per year or more of volatile organic compounds, carbon monoxide, lead, sulfur dioxide, nitrogen dioxide, or PM10; those that emit 10 tons per year of any single hazardous air pollutant (HAP) (specifically listed under the CAA); or those that emit 25 tons per year or more of a combination of HAPs.

Revisions to the state operating permits program are also subject to public notice, comment, and our approval.

What is the Federal approval process for an operating permits program?

In order for state regulations to be included in the Federally-enforceable Title V operating permits program, states must formally adopt regulations consistent with state and Federal requirements. This process generally includes a public notice, public hearing, public comment period, and a formal adoption by a state-authorized rulemaking body.

Once a state rule, regulation, or control strategy is adopted, the state submits it to us for inclusion into the approved operating permits program. We must provide public notice and seek additional public comment regarding the proposed Federal action on the state submission. If adverse comments are received, they must be addressed prior to any final Federal action by us.

All state regulations and supporting information approved by EPA under section 502 of the CAA, including revisions to the state program, are included in the Federally-approved operating permits program. Records of such actions are maintained in the CFR at Title 40, part 70, appendix A, entitled “Approval Status of State and Local Operating Permits Programs.”

What is being addressed in this document?

This rule revision modifies requirements for certain types of grain elevators by adding a new rule to the Iowa Administrative Code (IAC) with special requirements for these facilities. The rule amendments define each type of facility, and also specify the permitting requirements, emissions calculation methodology, emissions reporting and record keeping, and best management practices for controlling air pollution. A particulate matter (PM) emission standard for bin vents located at country grain elevators is described in subrule 23.4(7). Affected facilities are also required to comply with the fugitive dust standard to further minimize emissions. The deadline for affected facilities to comply with the new requirements was March 31, 2008.

The associated definitions are being revised or added to IAC 567 Chapters 20 and 22 as follows: Country grain elevator, country grain terminal elevator, feed mill equipment, grain, grain processing, grain storage elevator, grain terminal elevator, permanent storage capacity and potential to emit.

The new rule added into IAC 567 Chapter 22.10(455B) applies to permitting requirements for country grain elevators, country grain terminal elevators, grain terminal elevators and feed mill equipment. Compliance with the new requirements does not alleviate any affected person's duty to comply with any applicable state or Federal regulations. In particular, the emission standards set forth in 567 Chapter 23, including the regulations for grain elevators contained in 40 CFR Part 60 Subpart DD, as adopted by the state, may apply.

Also added to IAC 567-22.10(455B) are methods for calculating potential to emit (PTE) for PM and PM10 for the four subject facilities: Country grain elevators; country grain terminal elevators; grain terminal elevators, and feed mill equipment.

Grain elevators are classified in four groups as follows: Group 1—facilities with PTE less than 15 tons per year (tpy); Group 2—facilities with PTE greater than or equal to 15 tpy and less than or equal to 50 tpy; Group 3—facilities with PTE more than 50 tpy and not more than 100 tpy, and Group 4—facilities that emit greater than or equal to 100 tpy.

These categories of grain elevators are described below. As explained below, EPA has reviewed the rules changes and has determined that they do not result in an impermissible relaxation of the SIP under CAA Section 110(l).

An owner or operator of a Group 1 facility is required to provide registration with PTE calculations and to retain a record of the previous five calendar years of total annual grain handled. The calculation of the facility's potential PM10 is required to be submitted to IDNR annually by January 31 for the previous calendar year. If additions, removals or modifications to equipment are performed, emissions will be calculated prior to any changes and if emissions increase to 15 tpy or more, the owner or operator shall comply with requirements set forth in Groups 2 to 4 as applicable prior to making the additions, removals or modifications. The same procedures will apply if the owner or operator changes the facility classification or permanent grain storage capacity.

The owner or operator of a Group 2 facility, in lieu of obtaining source-specific air construction permits for each piece of emissions equipment, may submit a Group 2 permit application with PTE calculations on IDNR-provided forms; and, if qualified, may operate under a permit by rule. If one or more construction permits exist, it remains in full force and effect and is not invalidated by subsequent submittal of a Group 2 permit application pursuant to this rule. Restrictions on equipment included in a previously-issued construction permit may be incorporated into a Group 2 permit on a case-by-case basis by IDNR. Records will be maintained as specified in the Group 2 permit. If additions, removals, or modifications to equipment are performed, emissions changes due to these actions will be calculated prior to any changes; and if emissions increase beyond 50 tpy or more, the owner or operator must comply with requirements set forth in Groups 3 or 4 (source categories requiring source-specific permits, as discussed below) as applicable, prior to making the additions, removals or modifications. As with Group 1, the same procedures will apply if the owner or operator changes the facility classification or permanent grain storage capacity.

The owner or operator of a Group 3 facility must obtain the required source-specific construction permits as specified under existing subrule 22.1(1). Owners or operators of new facilities must obtain the required permits prior to construction or reconstruction of a facility. Records will be maintained as specified in the Group 3 permit. If additions, removals or modifications to equipment are performed, emissions will be calculated prior to any changes; and, if emissions increase to 100 tpy or more, the owner or operator must comply with the requirements set forth for Group 4 facilities, as applicable, prior to making the additions, removals or modifications. The same procedures will apply if the owner or operator changes the facility classification or permanent grain storage capacity. If the PTE for PM or PM10 triggers major source permitting, the owner or operator must comply with the requirements of 567 Chapter 33 (PSD) as applicable. Fugitive emissions as defined in 567-33.3(1) are included in the PTE calculation for determining PSD applicability. The owner or operator shall keep records of annual grain handled at the facility and annual PTE emissions on site for a period of five years.

The owner or operator of a Group 4 facility is required to obtain source-specific construction permits as specified under subrule 22.1(1) in the current SIP. The owner or operator of a new facility shall obtain the required permits prior to construction or reconstruction of a facility. Records will be maintained as specified in the Group 4 permit. If the PTE for PM or PM10 triggers major source permitting, the owner or operator must comply with the requirements of 567 Chapter 33 (PSD) as applicable. Fugitive emissions as defined in 567-33.3(1) are included in the PTE calculation for determining PSD applicability. The owner or operator shall keep records of annual grain handled at the facility and annual PTE emissions on site for a period of five years. The owner or operator of a Group 4 facility shall apply for an operating permit for the facility if the annual PTE for PM or PM10 is equal to or greater than 100 tpy as specified in rules 567-22.100(455B) through 567-22.300(455B), which are part of the currently-approved Title V program. Fugitive emissions in the calculations will be included if the PTE for PM10 is greater than 100 tpy.

The rule revision means that Group 1 sources (sources emitting less than 15 tpy of PM or PM10) will not be required to obtain source-specific permits if they adequately demonstrate that emissions are less than that threshold. The state has submitted a demonstration that grain elevators of this size would not adversely impact air quality. EPA believes the state has shown that sources of this size would not be expected to adversely impact air quality.

Group 2 sources (sources emitting between 15 and 50 tpy) are not required to obtain source-specific permits if they operate in accordance with the requirements of the rule (for example, requiring implementation of best management practices for controlling particulate matter emissions). These sources obtain standardized permits. The state retains the ability to require source-specific air quality analyses from these sources if the Group 2 application, or other information, indicates that a particular source might adversely impact air quality. EPA concludes there are sufficient safeguards in the rule to ensure that Group 2 sources will not adversely impact air quality.

The rule requires that Groups 3 and 4 sources obtain traditional source-specific permits. Therefore, there is no substantive change from the current SIP for sources in these groups.

As feed mill equipment does not fall under the grain elevator classifications, a separate section of the new rule sets forth the requirements with regard to permitting, emissions inventory, operating permits, and prevention of significant deterioration applicability. These requirements generally entail no change from the current SIP.

EPA is also approving a revision to Chapter 23 of the IAC with regard to grain handling and processing plants. The revision states that the owner or operator of equipment at a permanent installation shall not cause, allow or permit the particulate matter discharged to the atmosphere to exceed 0.1 grain per dry standard cubic foot of exhaust gas with the following exception: Particulate matter discharged to the atmosphere from a grain bin vent at a country grain elevator shall not exceed 1.0 grain per dry standard cubic foot of exhaust gas; particulate matter discharged from a grain bin vent at a country grain terminal elevator or a grain terminal elevator constructed before March 31, 2008, shall not exceed 1.0 grain per dry standard cubic foot of exhaust gas, and particulate matter discharged from a grain bin vent at a country grain terminal elevator or a grain terminal elevator constructed after March 31, 2008, shall not exceed 0.1 grain per dry standard cubic foot of exhaust gas. IDNR provided an analysis of PM emissions which showed that PM emissions would be less than 5 tpy at a facility with 35 million bushels per year throughput rate. The throughput is on the upper end of the throughput range for the majority of the grain elevators that will be affected by the rules; and based on the analysis of PM emissions, the revision would not be expected to adversely impact air quality. EPA has determined that the state's analysis of this rule change meets the requirements of CAA section 110(l).

Have the requirements for approval of a SIP revision and a Part 70 revision been met?

The state submittal has met the public notice requirements for SIP submissions in accordance with 40 CFR 51.102. The submittal also satisfied the completeness criteria of 40 CFR Part 51, appendix V. In addition, as explained above and in more detail in the technical support document which is part of this docket, these revisions meet the substantive SIP requirements of the CAA, including section 110 and implementing regulations. These revisions are minor clarifications, updates, and corrections which do not affect the stringency of existing requirements. These revisions are also consistent with applicable EPA requirements in Title V of the CAA and 40 CFR Part 70.

What action is EPA taking?

EPA is approving the request to amend the Iowa SIP and Operating Permits Program to approve the modification of requirements for certain types of grain elevators. These modifications will not adversely affect the air quality in the state of Iowa and will not relax the SIP. The state provided adequate justification to this effect. We are processing this action as a direct final action because the revisions make routine changes to the existing rules which are noncontroversial. Therefore, we do not anticipate any adverse comments. Please note that if EPA receives adverse comment on part of this rule and if that part can be severed from the remainder of the rule, EPA may adopt as final those parts of the rule that are not the subject of an adverse comment.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045, “Protection of Children from Environmental Health Risks and Safety Risks” (62 FR 19885, April 23, 1997), because it approves a state rule implementing a Federal standard.

In reviewing SIP and Title V submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by October 24, 2008. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 70

Administrative practice and procedure, Air pollution control, Intergovernmental relations, Operating permits, Reporting and recordkeeping requirements.

Dated: August 15, 2008.
John B. Askew,
Regional Administrator, Region 7.

Chapter I, title 40 of the Code of Federal Regulations is amended as follows:

PART 52—[AMENDED]

1. The authority citation for part 52 continues to read as follows:

Authority: 42 U.S.C. 7401 et seq.

Subpart Q—Iowa

2. In § 52.820(c) the table is amended by:

a. Revising entries for 567-20.2; 567-22.1 and 567-23.4; and

b. Adding in numerical order 567-22.10.

The revisions and addition read as follows:

§ 52.820 Identification of plan.

* * * * *

(c) * * *

EPA-Approved Iowa Regulations
Iowa citation | Title | State effective date | EPA approval date | Explanation
Iowa Department of Natural Resources Environmental Protection Commission [567]
Chapter 20—Scope of Title—Definitions—Forms—Rules of Practice
* * * * * * *
567-20.2 | Definitions | 03/19/2008 | 08/25/2008 [insert FR page number where the document begins] | The definitions for anaerobic lagoon, odor, odorous substance, and odorous substance source are not SIP approved.
* * * * * * *
Chapter 22—Controlling Pollution
567-22.1 | Permits Required for New or Existing Stationary Sources | 03/19/2008 | 08/25/2008 [insert FR page number where the document begins]
* * * * * * *
567-22.10 | Permitting Requirements for Country Grain Elevators, Country Grain Terminal Elevators, Grain Terminal Elevators and Feed Mill Equipment | 03/19/2008 | 08/25/2008 [insert FR page number where the document begins]
* * * * * * *
Chapter 23—Emission Standards for Contaminants
* * * * * * *
567-23.4 | Specific Processes | 03/19/2008 | 08/25/2008 [insert FR page number where the document begins] | Subrule 23.4(10) is not SIP-approved.
* * * * * * *

* * * * *

PART 70—[AMENDED]

3. The authority citation for part 70 continues to read as follows:

Authority: 42 U.S.C. 7401 et seq.

4. Appendix A to Part 70 is amended by adding paragraph (j) under “Iowa” to read as follows:

Appendix A to Part 70—Approval Status of State and Local Operating Permits Programs

* * * * *

Iowa

* * * * *

(j) The Iowa Department of Natural Resources submitted for program approval rule 567-22.100(455B) on April 8, 2008. The state effective date was March 19, 2008. These revisions to the Iowa program are approved effective October 24, 2008.

* * * * *

[FR Doc. E8-19519 Filed 8-22-08; 8:45 am]

BILLING CODE 6560-50-P